DEPARTMENT OF THE INTERIOR

National Park Service

Notice of Inventory Completion: Bernice Pauahi Bishop Museum, Honolulu, HI

AGENCY: National Park Service, Interior.

ACTION: Notice.

Notice is hereby given in accordance with provisions of the Native Graves Protection and Repatriation Act, 25 U.S.C. 3003, Sec. 5, of the completion of an inventory of human remains from Moloka’i, HI, in the possession of the Bernice Pauahi Bishop Museum, Honolulu, HI.

This notice is published as part of the National Park Service’s administrative responsibilities under NAGPRA, 25 U.S.C. 3003, Sec. 5 (d)(3). The determinations within this notice are the sole responsibility of the museum, institution, or Federal agency that has control of these Native American human remains and associated funerary objects. The National Park Service is not responsible for the determinations within this notice.

A detailed assessment of these human remains has been made by the Bishop Museum’s professional staff in consultation with representatives from the Moloka’i Island Burial Council.

In 1952, human remains representing one individual were collected for the museum by Dr. K.P. Emory at the Makai Sink Shelter-Sand bluff area (50-Mo-B06-002; Mo site 9), Kaluakoi, Moloka’i, HI. The human remains are one human tooth. No known individual was identified. No associated funerary objects are present.

In 1952, human remains representing one individual were collected for the museum by Dr. K.P. Emory at the Mo’omomi Shelter/Kaiehu (50-Mo-B06-003; Mo Site 1), Kaluakoi, Moloka’i, HI. The human remains are one human tooth and a bag of human tooth fragments. No known individual was identified. No associated funerary objects are present.

In 1971, human remains representing one individual were collected for the museum at the Kaupikiawa Cave (site Mo-B09-001), Kalaupapa, Moloka’i, HI. The human remains are one human tooth. No known individual was identified. No associated funerary objects are present.

Officials of the Bishop Museum have determined that, pursuant to 25 U.S.C. 3001, Sec. 2 (9) and 2 (10), the human remains listed above represent the physical remains of three individuals of Native American ancestry. Officials of the Bishop Museum also have determined that, pursuant to 25 U.S.C. 3001, Sec. 2 (2), there is a relationship of shared group identity that can be reasonably traced between these Native American human remains and associated funerary objects and the Moloka’i Island Burial Council, Hui Malama I Na Kupuna O Hawai‘i Nei, and Office of Hawaiian Affairs.

Representatives of any other Native Hawaiian organization that believes itself to be culturally affiliated with these human remains should contact Dr. Guy Kaulukukui, Vice President of Cultural Studies, Bishop Museum, 1525 Bernice Street, Honolulu, HI, 96718-2704, telephone (808) 848-4126 before June 2, 2003. Repatriation of these human remains to the Moloka’i Island Burial Council, Hui Malama I Na Kupuna O Hawai‘i Nei, and Office of Hawaiian Affairs may begin after that date if no additional claimants come forward.

The Bishop Museum is responsible for notifying the Moloka’i Island Burial Council, Hui Malama I Na Kupuna O Hawai‘i Nei, and the Office of Hawaiian Affairs that this notice has been published.

Dated: October 8, 2002.
Robert Stearns,
Manager, National NAGPRA Program.

[FR Doc. 03-10913 Filed 5-1-02; 8:45 am]

BILLING CODE 4310-70-S